DEPARTMENT OF THE INTERIOR

National Park Service

36 CFR Part 7

RIN 1024-AD85

Cape Hatteras National Seashore Proposed Rule: Off-Road Vehicle Management—Reopening of Public Comment Period

AGENCY: National Park Service, Interior.

ACTION: Reopening of public comment period.

SUMMARY: We, the National Park Service, are reopening the public comment period for the proposed rule to manage off-road vehicle use at Cape Hatteras National Seashore in North Carolina. The additional comment period allows more time for those who may have been affected by Hurricane Irene to submit comments.

DATES: Comments must be received before midnight (Eastern Daylight Time) on September 19, 2011.

ADDRESSES: You may submit comments, identified by the Regulation Identifier Number 1024-AD85, by either of the following methods:

• Federal eRulemaking Portal: http://www.regulations.gov. Follow the instructions for submitting comments.

• Mail or hand deliver to: Superintendent, Cape Hatteras National Seashore, 1401 National Park Drive, Manteo, North Carolina 27954.

FOR FURTHER INFORMATION CONTACT: Mike Murray, Superintendent, Cape Hatteras National Seashore, 1401 National Park Drive, Manteo, North Carolina 27954. Phone: (252) 473-2111 (ext 148).

SUPPLEMENTARY INFORMATION: On July 6, 2011, we published in the Federal Register a proposed rule to manage off-road vehicle use at Cape Hatteras National Seashore, North Carolina. (76 FR 39350) The 60-day public comment period for this proposal closed on September 6, 2011. Hurricane Irene made landfall in the area of the Seashore on Saturday August 27, 2001, resulting in wide-spread damage there, and north along the east coast into New England. Because hurricane damage may have prevented some affected persons from commenting on the rule, we are reopening the public comment period from September 9, 2011 through September 19, 2011. We do not anticipate extending the public comment period beyond this date due to a court-imposed deadline for completing the final rule. If you already commented on the rule you do not have to resubmit your comments. Also, if you submitted comments on this rule between September 6, 2011 and September 9, 2011 you do not need to resubmit them, we will consider any comments received during this period.

Comments submitted through Federal eRulemaking Portal: http://www.regulations.gov or submitted by mail must be entered or postmarked before midnight (Eastern Daylight Time) September 19, 2011. Comments submitted by hand delivery must be received by the close of business hours (5 p.m. Eastern Daylight Time) on September 19, 2011. Comments will not be accepted by fax, e-mail, or in any way other than those specified above, and bulk comments in any format (hard copy or electronic) submitted on behalf of others will not be accepted.

All submissions must include the words “National Park Service” or “NPS” and must include the identifying number 1024-AD85. Comments received through the Federal eRulemaking portal at http://www.regulations.gov will be available on the regulations.gov Web site, usually without change. Before including your address, phone number, e-mail address, or other personal identifying information in your comment, you should be aware that your entire comment—including your personal identifying information—may be made publicly available at any time. While you can ask us in your comment to withhold your personal identifying information, we cannot guarantee that we will be able to do so. To view comments received through the Federal eRulemaking portal, go to http://www.regulations.gov and enter 1024-AD85 in the Keyword or ID search box.

Dated: September 6, 2011.
Eileen Sobeck,
Acting Assistant Secretary for Fish and Wildlife and Parks.

[FR Doc. 2011-23127 Filed 9-8-11; 8:45 am]

BILLING CODE 4310-X6-P